DEPARTMENT OF HEALTH AND HUMAN SERVICES

National Institutes of Health

Office of the Director; Notice of Meeting

Pursuant to section 1009 of the Federal Advisory Committee Act, as amended, notice is hereby given of the following meeting.

The meeting will be held as a virtual meeting and will be open to the public as indicated below. Interested individuals should pre-register at https://cvent.me/N0moVx to attend this meeting. Individuals who need special assistance, such as sign language interpretation or other reasonable accommodations, should notify the Contact Person listed below in advance of the meeting. The meeting can be accessed from the NIH Videocast at the following link: http://videocast.nih.gov/.

Name of Committee: Scientific Management Review Board.

Date: January 10, 2025.

Time: 11:00 a.m. to 1:00 p.m.

Agenda: Establish priorities and review prior recommendations and report.

Place: National Institutes of Health, One Center Drive, Building 1, Bethesda, MD 20892.

Meeting Format: Virtual Meeting.

Contact Person: Tyrone Spady, Ph.D., Acting Senior Advisor to the NIH Deputy Director, Office of the Director, One Center Drive, Building 1, Room 108, Bethesda, MD 20892, (301) 496-2433, smrb@nih.gov.

Any interested person may file written comments with the committee by forwarding the statement to the Contact Person listed on this notice. The statement should include the name, address, telephone number and when applicable, the business or professional affiliation of the interested person.

The draft meeting agenda and other information about the SMRB, including information about access to the webcast, will be available prior to the meeting at http://smrb.od.nih.gov.

(Catalogue of Federal Domestic Assistance Program Numbers: 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS.)

Dated: December 12, 2024.
Lauren A. Fleck,
Program Analyst, Office of Federal Advisory Committee Policy.

[FR Doc. 2024-29701 Filed 12-16-24; 8:45 am]

BILLING CODE 4140-01-P